LIBRARY OF CONGRESS

Copyright Office

37 CFR Parts 201 and 202

[Docket No. 2011-8]

Discontinuance of Form CO in Registration Practices

Correction

In rule document 2012-7429 appearing on pages 18705-18707 in the issue of March 28, 2012, make the following corrections:

1. On page 18706, in the third column, in the 17th line from the bottom, “□.” should read “℗.”.

§ 202.2 [Corrected]

2. On page 18707, in § 202.2, in the first column, in amendatory instruction 4, in the third line, “□” should read “℗”.

[FR Doc. C1-2012-7429 Filed 4-6-12; 8:45 am]

BILLING CODE 1505-01-D